Executive Order 14351 of September 19, 2025

The Gold Card

By the authority vested in me as President by the Constitution and the laws of the United States of America, it is hereby ordered:

Section 1. Purpose. My Administration has worked relentlessly to undo the disastrous immigration policies of the prior administration. Those policies produced a deluge of immigrants, without serious consideration of how those immigrants would affect America's interests.

Most significantly, the prior administration permitted millions of aliens to enter the United States illegally, to the detriment of public safety, national security, and the rule of law. International cartels, transnational criminal organizations, terrorists, and foreign malign actors took advantage of those open borders policies. The prior administration also permitted abuse of the refugee process, swamping towns and cities with aliens and, in some cases, forcing them to declare emergencies to combat the crisis.

It is a priority of my Administration to realign Federal immigration policy with the Nation's interests by ending illegal immigration and prioritizing the admission of aliens who will affirmatively benefit the Nation, including successful entrepreneurs, investors, and businessmen and women.

To advance that policy, I hereby announce the Gold Card, a visa program overseen by the Secretary of Commerce that will facilitate the entry of aliens who have demonstrated their ability and desire to advance the interests of the United States by voluntarily providing a significant financial gift to the Nation.

Sec. 2. The Gold Card. (a) The Secretary of Commerce, in coordination with the Secretary of State and the Secretary of Homeland Security, shall establish a “Gold Card” program authorizing an alien who makes an unrestricted gift to the Department of Commerce under 15 U.S.C. 1522 (or for whom a corporation or similar entity makes such a gift) to establish eligibility for an immigrant visa using an expedited process, to the extent consistent with law and public safety and national security concerns. The requisite gift amount shall be $1 million for an individual donating on his or her own behalf and $2 million for a corporation or similar entity donating on behalf of an individual.

(b) In adjudicating visa applications, the Secretary of State and the Secretary of Homeland Security shall, consistent with applicable law, treat the gift specified in subsection (a) of this section as evidence of eligibility under 8 U.S.C. 1153(b)(1)(A), of exceptional business ability and national benefit under 8 U.S.C. 1153(b)(2)(A), and of eligibility for a national-interest waiver under 8 U.S.C. 1153(b)(2)(B).

(c) The Secretary of Commerce shall deposit the gifts contributed under subsection (a) of this section in a separate fund in the Department of the Treasury and use them to promote commerce and American industry, consistent with the statutory authorities of the Department of Commerce, see, e.g., 15 U.S.C. 1512.

Sec. 3. Implementation. The Secretary of Commerce, the Secretary of State, and the Secretary of Homeland Security shall, within 90 days of the date of this order, take all necessary and appropriate steps to implement the Gold Card program. Among other things, they shall, to the extent consistent with applicable law and their respective statutory authorities, including the limits on the numbers of visas specified in 8 U.S.C. 1151 et seq.:

(a) Establish a process for application and expedited adjudication of Gold Card petitions, visa issuance, and adjustment of status.

(b) Specify the date on which applicants (or sponsors if applicable) may begin to submit gifts for consideration under the Gold Card program.

(c) Establish a process for a Gold Card holder sponsored by a corporation or similar entity to abandon his or her status and for the Secretary of State and the Secretary of Homeland Security to consider the original gift as evidence of eligibility under 8 U.S.C. 1153(b)(1)(A), of exceptional business ability and national benefit under 8 U.S.C. 1153 (b)(2)(A), and of eligibility for a national-interest waiver under 8 U.S.C. 1153(b)(2)(B), for a different individual specified by the corporation or similar entity. The transferee shall otherwise be subject to the same procedures as an original visa applicant, including appropriate screening for public safety and national security.

(d) Establish administrative fees to cover the cost of expedited processing under subsection (a) of this section.

(e) Establish maintenance and transfer fees for corporations or similar entities sponsoring individuals under the Gold Card program.

(f) Consider expanding the Gold Card program to visa applicants under 8 U.S.C. 1153(b)(5).

Sec. 4. Severability. If any provision of this order, or the application of any provision to any person, is held to be invalid, the remaining provisions and applications shall not be affected thereby.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Commerce.

THE WHITE HOUSE,

September 19, 2025.

[FR Doc. 2025-18602

Filed 9-23-25; 11:15 am]

Billing code 3510-DT-P